Title 3—

The President

Proclamation 9550 of December 2, 2016

International Day of Persons With Disabilities, 2016

By the President of the United States of America

A Proclamation

Over a quarter-century ago, the United States enshrined into law the principles of equal access and equal opportunity for people with disabilities through the Americans with Disabilities Act (ADA), which upholds the principle that each of us is entitled to a set of fundamental freedoms and protections. This progress has made America a leader in advancing the rights of people with disabilities around the globe. On International Day of Persons with Disabilities, we celebrate how far we have come in protecting the rights of those who live with disabilities and recommit to shaping a future in which all members of this community can enjoy their full rights and freedoms.

Building on the progress of the ADA, my Administration has taken important steps to remove barriers and eliminate discrimination based on disability. Thanks to the Affordable Care Act, individuals can no longer be denied coverage because of a pre-existing condition or disability. We have supported increasing funding for the Individuals with Disabilities Education Act, reauthorized the Children's Health Insurance Program, and strengthened anti-discrimination and Olmstead enforcement at the Department of Justice. Additionally, we created the first-ever Special Advisor for International Disability Rights, and we established the United States Strategy to Prevent and Respond to Gender-Based Violence Globally in order to address violence against women and girls around the world—because women with a disability are more likely to experience physical and sexual abuse than women without one. And last year, we committed to achieving the Sustainable Development Goals, which recognize inclusive education, disability employment, and social acceptance of the disability community as important steps to ending world poverty.

Our progress at home reflects our full commitment to the rights of people with disabilities around the world. America was the first country to comprehensively address non-discrimination on the basis of disability in national legislation and declare that disability rights are human rights which must be recognized and promoted everywhere. In my first year in office, the United States joined 140 other nations in signing the United Nations Convention on the Rights of Persons with Disabilities—the first international human rights convention to fully address human rights in the context of disability. Now joined by over 160 States Parties, this Convention serves as a beacon of hope to the more than 1 billion people worldwide who live with a disability—a reminder that the need to protect disability rights does not end at our borders. Regrettably, the Senate has still not provided its advice and consent for ratification of this Convention, and I urge them to do so and to uphold our global commitment to the international disability community.

We have taken important steps forward to advance the rights of persons with disabilities, but the fight is not over. As long as anyone succumbs to casual discrimination or fear of the unfamiliar, we have more work to do to honor the many people with disabilities who have shared their stories of exclusion and injustice—and the millions more they spoke up for. Because of the advocates who have led the way, more individuals with disabilities can pursue their full measure of happiness. They have taught us that our world is far better off when all people can live up to their full potential—it makes all of us more whole, and it makes our world a better place.

NOW, THEREFORE, I, BARACK OBAMA, President of the United States of America, by virtue of the authority vested in me by the Constitution and the laws of the United States, do hereby proclaim December 3, 2016, as International Day of Persons with Disabilities. I call on all Americans to observe this day with appropriate ceremonies, activities, and programs.

IN WITNESS WHEREOF, I have hereunto set my hand this second day of December, in the year of our Lord two thousand sixteen, and of the Independence of the United States of America the two hundred and forty-first.

[FR Doc. 2016-29485

Filed 12-6-16; 11:15 am]

Billing code 3295-F7-P